DEPARTMENT OF JUSTICE

Office of Justice Programs

[OJP (NIJ) Docket No. 1754]

Request for Public Comment on Proposed NIJ Standard Entitled Patrol Rifles for Police Officers

AGENCY: National Institute of Justice, Justice.

ACTION: Notice.

SUMMARY: The National Institute of Justice (NIJ) seeks feedback from the public on a proposed NIJ Standard entitled Patrol Rifles for Law Enforcement that specifies minimum performance requirements and test methods for patrol rifles used by U.S. law enforcement.

DATES: Comments must be received by 5 p.m. Eastern Time on March 19, 2019.

How to Respond and What to Include: The draft document can be found here: https://nij.gov/topics/technology/standards-testing/pages/comment.aspx. The draft document is available in both Word and pdf formats. To submit comments, NIJ encourages commenters to fill out the comment template and send it in an email to the contact listed below with “Draft NIJ Standard Patrol Rifles for Law Enforcement” in the subject line. Please provide contact information with the submission of comments. All materials submitted are subject to public release under the Freedom of Information Act, and will be shared with U.S. Government staff or U.S. Government contractors for evaluation purposes to revise the draft document. Comments should not include any sensitive personal information or commercially confidential information. If you wish to voluntarily submit confidential commercial information, but do not want it to be publicly released, you must mark that information prominently as “CONFIDENTIAL COMMERCIAL INFORMATION” and NIJ will, to the extent permitted by law, withhold such information from public release.

FOR FURTHER INFORMATION CONTACT: Mark Greene, Policy and Standards Division Director, Office of Science and Technology, National Institute of Justice, 810 7th Street NW, Washington, DC 20531; telephone number: (202) 307-3384; email address: mark.greene2@usdoj.gov.

SUPPLEMENTARY INFORMATION: This draft document specifies minimum performance requirements and test methods for patrol rifles used by U.S. law enforcement. The final version of this document is anticipated to be published in late 2019 as a new NIJ Standard entitled Patrol Rifles for Law Enforcement. Its primary purpose will be for use by the NIJ Compliance Testing Program (CTP) for testing and evaluation of patrol rifles submitted to the program for certification by NIJ. It will be used by both ballistics laboratories that test firearms and firearms manufacturers participating in the NIJ CTP. This standard will be included in the scope of accreditation used by the National Voluntary Laboratory Accreditation Program (NVLAP) to accredit ballistics laboratories. For more information on NIJ's voluntary standards, please visit https://www.nij.gov/standards.

David B. Muhlhausen,
Director, National Institute of Justice.

[FR Doc. 2018-27396 Filed 12-18-18; 8:45 am]

BILLING CODE 4410-18-P